DEPARTMENT OF COMMERCE

International Trade Administration

[A-523-810]

Polyethylene Terephthalate Resin From the Sultanate of Oman: Preliminary Results of Antidumping Duty Administrative Review; 2017-2018

AGENCY: Enforcement and Compliance, International Trade Administration, Department of Commerce.

SUMMARY: The Department of Commerce (Commerce) preliminarily determines that OCTAL SAOC-FZC (OCTAL) did not make sales of subject merchandise at less than normal value during the period of review (POR) May 1, 2017 through April 30, 2018. Interested parties are invited to comment on these preliminary results of review.

DATES: Applicable July 18, 2019.

FOR FURTHER INFORMATION CONTACT: Jonathan Hill, AD/CVD Operations, Office IV, Enforcement and Compliance, International Trade Administration, U.S. Department of Commerce, 1401 Constitution Avenue NW, Washington, DC 20230; telephone: (202) 482-3518.

SUPPLEMENTARY INFORMATION:

Background

On May 1, 2018, Commerce notified interested parties of the opportunity to request an administrative review of the antidumping duty (AD) order on polyethylene terephthalate resin (PET resin) from the Sultanate of Oman (Oman).¹ Commerce received timely requests from DAK Americas, LLC, Indorama Ventures USA, Inc., and Nan Ya Plastics Corporation, America (collectively, the petitioners), and OCTAL to conduct an administrative review of OCTAL during the POR.² On July 12, 2018, Commerce published a notice initiating an AD administrative review of PET resin from Oman covering OCTAL for the POR.³ OCTAL and the petitioners filed numerous submissions in this review which are discussed in the accompanying Preliminary Decision Memorandum.⁴

¹ See Antidumping or Countervailing Duty Order, Finding, or Suspended Investigation; Opportunity to Request Administrative Review, 83 FR 19047 (May 1, 2018).

² See Petitioners' Request for Review dated May 31, 2018; see also OCTAL's Request for Review dated May 31, 2018.

³ See Initiation of Antidumping and Countervailing Duty Administrative Reviews, 83 FR 32270 (July 12, 2018).

⁴ For a full discussion of the background, see Memorandum, “Decision Memorandum for Preliminary Results of the 2017-2018 Antidumping Duty Administrative Review of Polyethylene Terephthalate Resin from the Sultanate of Oman,” dated concurrently with, and hereby adopted by, this notice (Preliminary Decision Memorandum).

Commerce exercised its discretion to toll all deadlines affected by the partial federal government closure from December 22, 2018 through the resumption of operations on January 29, 2019.⁵ If the new deadline falls on a non-business day, in accordance with Commerce's practice, the deadline will become the next business day. Based on tolling, the revised deadline for the preliminary results was March 12, 2019. However, on March 4, 2019, Commerce extended the deadline for issuing the preliminary results of this review. The current deadline for issuing the preliminary results of review is July 10, 2019.

⁵ See Memorandum to the Record from Gary Taverman, Deputy Assistant Secretary for Antidumping and Countervailing Duty Operations, performing the non-exclusive functions and duties of the Assistant Secretary for Enforcement and Compliance, “Deadlines Affected by the Partial Shutdown of the Federal Government,” dated January 28, 2019. All deadlines in this segment of the proceeding have been extended by 40 days.

Scope of the Order

The merchandise covered by this order is PET resin having an intrinsic viscosity of at least 0.70, but not more than 0.88, deciliters per gram. The merchandise subject to this order is properly classified under subheadings 3907.60.00.30, 3907.61.0000, 3907.61.0010, 3907.61.0050, 3907.69.0000, 3907.69.0010, and 3907.69.0050 of the Harmonized Tariff Schedule of the United States (HTSUS).⁶ Although the HTSUS subheadings are provided for convenience and customs purposes, the written description of the merchandise covered by this order is dispositive. For a full description of the scope of the order, see Preliminary Decision Memorandum.

⁶ On January 27, 2017, Commerce added HTS numbers 3907.61.0000 and 3907.69.0000 to the Case Reference File. See Commerce Memorandum re: “Request from Customs and Border Protection to Update the ACE Case Reference File: Polyethylene Terephthalate Resin form the Sultanate of Oman (A-523-810) dated January 31, 2017. Further, on February 28, 2019, Commerce added HTS numbers 3907.61.0010, 3907.61.0050, 3907.69.0010 and 3907.69.0050 to the Case Reference File. See Commerce Memorandum re: “Request from U.S. Customs and Border Protection to Update the ACE Case Reference File: Polyethylene Terephthalate Resin form the Sultanate of Oman (A-523-810) dated February 28, 2019.

Methodology

Commerce is conducting this review in accordance with section 751(a) of the Tariff Act of 1930, as amended (the Act). Export price and constructed export price have been calculated in accordance with section 772 of the Act. Normal value was calculated in accordance with section 773 of the Act. For a full description of the methodology underlying our conclusions, see the Preliminary Decision Memorandum. A list of the topics discussed in the Preliminary Decision Memorandum is attached as an appendix to this notice. The Preliminary Decision Memorandum is a public document and is on file electronically via Enforcement and Compliance's Antidumping and Countervailing Duty Centralized Electronic Service System (ACCESS). ACCESS is available to registered users at http://access.trade.gov and is available to all parties in the Central Records Unit, Room B8024 of the main Commerce building. In addition, a complete version of the Preliminary Decision Memorandum can be accessed directly at http://enforcement.trade.gov/frn/. The signed Preliminary Decision Memorandum and the electronic version of the Preliminary Decision Memorandum are identical in content.

Preliminary Results of Review

Commerce preliminarily determines that the following weighted-average dumping margin exists for the period May 1, 2017 through April 30, 2018:

Manufacturer/exporter | Weighted-average margin (percent)
OCTAL SAOC-FZC | 0.07 (de minimis).

Disclosure and Public Comment

Commerce intends to disclose the calculations used in our analysis to interested parties in this review within five days of the date of publication of this notice in accordance with 19 CFR 351.224(b). Interested parties are invited to comment on the preliminary results of this review. Pursuant to 19 CFR 351.309(c)(1)(ii), interested parties may submit case briefs no later than 30 days after the date of publication of this notice. Rebuttal briefs, limited to issues raised in the case briefs, may be filed no later than five days after the time limit for filing case briefs.⁷ Parties who submit case briefs or rebuttal briefs in this proceeding are requested to submit with each brief: (1) A statement of the issue, (2) a brief summary of the argument, and (3) a table of authorities.⁸ Executive summaries should be limited to five pages total, including footnotes.⁹ Case and rebuttal briefs should be filed using ACCESS.¹⁰

⁷ See 19 CFR 351.309(d)(1).

⁸ See 19 CFR 351.309(c)(2) and (d)(2).

⁹ Id.

¹⁰ See 19 CFR 351.303.

Pursuant to 19 CFR 351.310(c), any interested party may request a hearing within 30 days of the publication of this notice in the Federal Register. If a hearing is requested, Commerce will notify interested parties of the hearing date and time. Interested parties who wish to request a hearing must submit a written request to the Assistant Secretary for Enforcement and Compliance, filed electronically via ACCESS within 30 days after the date of publication of this notice. Requests should contain: (1) The party's name, address, and telephone number; (2) the number of participants; and (3) a list of the issues to be discussed. Issues raised in the hearing will be limited to those raised in the respective case and rebuttal briefs.

We intend to issue the final results of this administrative review, including the results of our analysis of issues raised by the parties in the written comments, within 120 days of publication of these preliminary results in the Federal Register, unless otherwise extended.¹¹

¹¹ See section 751(a)(3)(A) of the Act and 19 CFR 351.213(h)(1).

Assessment Rates

Upon issuance of the final results, Commerce will determine, and Customs and Border Protection (CBP) shall assess, antidumping duties on all appropriate entries in accordance with 19 CFR 351.212(b)(1). We will calculate importer-specific assessment rates equal to the ratio of the total amount of dumping calculated for examined sales with a particular importer to the total entered value of the sales in accordance with 19 CFR 351.212(b)(1). Where the respondent's weighted-average dumping margin is zero or de minimis, or an importer-specific assessment rate is zero or de minimis, we will instruct CBP to liquidate the appropriate entries without regard to antidumping duties. The final results of this review shall be the basis for the assessment of antidumping duties on entries of merchandise under review and for future deposits of estimated duties, where applicable.

For entries of subject merchandise during the POR produced by the respondent for which it did not know that its merchandise was destined for the United States, we will instruct CBP to liquidate unreviewed entries at the all-others rate if there is no rate for the intermediate company(ies) involved in the transaction.

We intend to issue instructions to CBP 15 days after the date of publication of the final results of this review.

Cash Deposit Requirements

The following cash deposit requirements will be effective for all shipments of PET resin from Oman entered, or withdrawn from warehouse, for consumption on or after the date of publication of the notice of the final results of this administrative review, as provided for by section 751(a)(2)(C) of the Act: (1) The cash deposit rate for OCTAL will be equal to the weighted-average dumping margin established in the final results of this review (except, if the rate is zero or de minimis, no cash deposit will be required); (2) for merchandise exported by manufacturers or exporters not covered in this review but covered in a prior segment of the proceeding, the cash deposit rate will continue to be the company-specific rate published for the most recently completed segment of this proceeding in which the manufacturer or exporter participated; (3) if the exporter is not a firm covered in this review, a prior review, or the less-than-fair-value investigation, but the manufacturer is, the cash deposit rate will be the rate established in the most recently completed segment of the proceeding for the manufacturer of the merchandise; and (4) the cash deposit rate for all other manufacturers or exporters will continue to be 7.62 percent ad valorem, the all-others rate established in the less-than-fair-value investigation.¹² These cash deposit requirements, when imposed, shall remain in effect until further notice.

¹² See Certain Polyethylene Terephthalate Resin from Canada, the People's Republic of China, India, and the Sultanate of Oman: Amended Final Affirmative Antidumping Determination (Sultanate of Oman) and Antidumping Duty Orders, 81 FR 27979 (May 6, 2016).

Notification to Importers

This notice also serves as a preliminary reminder to importers of their responsibility under 19 CFR 351.402(f) to file a certificate regarding the reimbursement of antidumping duties prior to liquidation of the relevant entries during this review period. Failure to comply with this requirement could result in Commerce's presumption that reimbursement of antidumping duties occurred and the subsequent assessment of double antidumping duties.

Notification to Interested Parties

These preliminary results of administrative review are issued and published in accordance with sections 751(a)(1) and 777(i)(1) of the Act and 19 CFR 351.213(h)(1).

Dated: July 10, 2019.
Jeffrey I. Kessler,
Assistant Secretary for Enforcement and Compliance.

Appendix—List of Topics Discussed in the Preliminary Decision Memorandum

I. Summary

II. Background

III. Scope of the Order

IV. Discussion of the Methodology

V. Currency Conversion

VI. Recommendation

[FR Doc. 2019-15189 Filed 7-17-19; 8:45 am]

BILLING CODE 3510-DS-P